DEPARTMENT OF ENERGY

Federal Energy Regulatory Commission

[Project No. 2101]

Sacramento Municipal Utility District; Notice of Application and Preliminary Draft Environmental Assessment Tendered for Filing with the Commission, and Establishing Procedural Schedule for Relicensing and Deadline for Submission of Final Amendments

July 28, 2005.

Take notice that the following hydroelectric application has been filed with the Commission and is available for public inspection.

a. Type of Application: New—major modified license.

b. Project No.: 2101.

c. Date Filed: July 15, 2005.

d. Applicant: Sacramento Municipal Utility District.

e. Name of Project: Upper American River Project.

f. Location: On the Rubicon River, Silver Creek, and South Fork of the American River near Placerville, California. The project affects 6,375 acres of Federal land administered by the El Dorado National Forest and 54 acres of Federal land administered by the Bureau of Land Management.

g. Filed Pursuant to: Federal Power Act, 16 U.S.C. 791 (a)-825(r).

h. Applicant Contact: David Hanson, Project Manager, Sacramento Municipal Utility District, 6301 S Street, Sacramento, California 95817-1899. Phone: 916-732-6703 or e-mail: dhanson@smud.org.

i. FERC Contact: Jim Fargo at (202) 502-6095, or e-mail: james.fargo@ferc.gov.

j. Cooperating Agencies: We are asking federal, state, local, and tribal agencies with jurisdiction and/or special expertise with respect to environmental issues to cooperate with us in the preparation of the environmental document. Agencies who would like to request cooperating status should follow the instructions for filing comments described in item k below. Agencies granted cooperating status will be precluded from being an intervenor in this proceeding consistent with the Commission's regulations.

k. Deadline for requests for cooperating agency status: 60 days from the date of this notice. All documents (original and eight copies) should be filed with: Magalie Roman Salas, Secretary, Federal Energy Regulatory Commission, 888 First Street, NE., Washington, DC 20426. Comments may be filed electronically via the Internet in lieu of paper; see 18 CFR 385.2001(a)(1)(iii) and the instructions on the Commission's Web site (http://www.ferc.gov) under the “e-Filing” link. After logging into the e-Filing system, select “Comment on Filing” from the Filing Type Selection screen and continue with the filing and process. The Commission strongly encourages electronic filing.

l. Status: This application has not been accepted for filing. We are not soliciting motions to intervene, protests, or final terms and conditions at this time.

m. Description of project: The project is located on the west slope of the Sierra Nevada Mountain Range, in El Dorado and Sacramento counties. The proposed project would be comprised of eight developments; seven of which are existing developments (Loon Lake, Robbs Peak, Jones Fork, Union Valley, Jaybird, Camino, and Slab Creek/White Rock) constructed by SMUD from 1959 through 1985 under the initial FERC license, and one of which would be a new pumped storage development (Iowa Hill) proposed by SMUD to be constructed by 2015. Nearly all of the land surrounding the project reservoirs within the FERC Project Boundary is owned by the United States and administered by the Forest Service as part of the Eldorado National Forest (ENF). There are also several project-related recreation facilities, which are owned and operated by the ENF, at Loon Lake, Gerle Creek, Union Valley, and Ice House reservoirs. These recreation facilities are not project features.

• Loon Lake Development—(1) Rubicon Dam—A 36-foot-high by 644-foot-long, concrete gravity main diversion dam located on the Rubicon River, and a concrete gravity auxiliary dam that is 29-foot-high by 553-foot-long. These structures create the Rubicon Reservoir; (2) Rockbound Tunnel—A 0.2-mile-long, 13-foot-diameter unlined horseshoe tunnel that diverts water from Rubicon Reservoir to Buck Island Reservoir via Rockbound Lake (a non-project facility) located on Highland Creek; (3) Buck Island Dam—A concrete gravity diversion dam located on the Little Rubicon River that is 23-feet-high by 293-feet-long, and a 15-foot-high by 244-foot-long concrete gravity auxiliary dam. These structures create Buck Island Reservoir; (4) Buck-Loon Tunnel—A 1.6-mile-long, 13-foot-diameter unlined modified horseshoe tunnel that diverts water from Buck Island Reservoir to Loon Lake Reservoir; (5) Loon Lake Dam—A rockfill dam on Gerle Creek that is 0.4-mile-long by 108-feet-high, with a 250-foot-long side channel spillway on the right bank, and a 910-footlong by 95-foot-high rockfill auxiliary dam, and an earthfill dike. These create Loon Lake Reservoir; (6) Loon Lake Penstock—A 0.3-mile-long, 14-foot-diameter concrete-lined horseshoe tunnel; 10-foot-diameter concrete lined vertical shaft; and 8.5-foot-diameter steel lined tunnel that extends from Loon Lake Reservoir to Loon Lake Powerhouse; (7) Loon Lake Powerhouse—An underground powerhouse, located over 1,100 feet below the surface of the Loon Lake Reservoir, consisting of one turbine with a rated capacity of 70,479 kW at best gate opening and one generator rated at 85,215 kW, with powerhouse maximum capability of 82,000 kW; (8) Loon Lake Tailrace Tunnel—A 3.8-mile-long, 18-foot diameter unlined horseshoe tunnel that runs from Loon Lake Powerhouse and discharges into Gerle Creek Reservoir; and (9) Transmission Lines—Two 69 kV overhead transmission lines: one extending to the Robbs Peak switchyard via the 7.9-mile-long Loon Lake-Robbs Peak Transmission Line, and the other extending to the Union Valley Switchyard via the 12.4-mile-long Loon Lake-Union Valley Transmission Line.

• Robbs Peak Development—(1) Gerle Creek Dam—A 58-foot-high, 444-foot-long concrete gravity overflow structure located on Gerle Creek, upstream of its confluence with SFRR, incorporating the intake of Gerle Creek Canal in its left abutment, creating Gerle Creek Reservoir; (2) Gerle Creek Canal—An above ground canal, 22-foot-wide and 19-foot-deep, extending 1.9 miles from Gerle Creek Reservoir to Robbs Peak Reservoir. It is partially lined with gunite; (3) Robbs Peak Dam—A 44-foot-high, 320-foot-long concrete gravity overflow structure, with 12 steel bulkhead gates, all 6.2-foot-high, on the spillway crest, located on the SFRR upstream of its confluence with Gerle Creek, that forms Robbs Peak Reservoir; (4) Robbs Peak Tunnel—A 3.2-mile-long, 13-foot-diameter unlined horseshoe and 10-foot-diameter lined diversion tunnel from Robbs Peak Reservoir to Robbs Peak Penstock; (5) Robbs Peak Penstock—A 9.75-to 8.5-foot-diameter, 0.4-mile-long steel penstock from Robbs Peak Tunnel to Robbs Peak Powerhouse; (6) Robbs Peak Powerhouse-Located on the northeast shore of Union Valley Reservoir, equipped with one turbine that has a rated capacity at best gate opening of 28,125 kW, and one generator rated at 29,700 kW, with maximum capability of 29,000 kW; and (7) Robbs Peak-Union Valley Transmission Line—A 6.8-mile-long, 69 kV overhead line that connects the Robbs Peak switchyard to the Union Valley switchyard.

• Jones Fork Development—(1) Ice House Dam—A rockfill dam located on the South Fork Silver Creek, 0.3-mile-long and 150-foot-high, incorporating a concrete ogee spillway with radial gates, and two auxiliary earthfill dikes; these create the Ice House Reservoir; (2) Jones Fork Tunnel—A 0.3-mile-long, 8-foot-diameter horseshoe concrete- and steel-lined tunnel from Ice House Reservoir to the Jones Fork Penstock; (3) Jones Fork Penstock—A 1.6-mile-long, 6-foot-diameter steel and concrete penstock from Jones Fork Tunnel to the Jones Fork Powerhouse; (4) Jones Fork Powerhouse—Contains a turbine with a rated capacity at best gate opening of 10,400 kW, and one generator rated at 11,495 kW, located on the southeast shore of Union Valley Reservoir; with maximum capability of 11,500 kW; and (5) Jones Fork-Union Valley Transmission Line—A 69 kV, 4.0-mile-long overhead transmission line from the Jones Fork switchyard to the Union Valley switchyard.

• Union Valley Development—(1) Union Valley Dam—An earthfill dam located on Silver Creek, 0.3-mile-long and 453-feet-high, incorporating a concrete ogee spillway with radial gates, creating Union Valley Reservoir; (2) Union Valley Tunnel—A 268-foot-long, 11-foot-diameter concrete-lined tunnel with an approximately 10-foot-diameter steel penstock in part of the tunnel and connecting Union Valley Reservoir with Union Valley Powerhouse; (3) Union Valley Penstock—A 0.3-mile-long, 10-foot-diameter steel penstock that conveys water from the outlet of the Union Valley Tunnel to the Union Valley Powerhouse; (4) Union Valley Powerhouse—The powerhouse is equipped with one turbine with a rated capacity at best gate opening of 40,074 kW, and one generator rated at 44,400 kW, located at the base of Union Valley Dam; with maximum capability of 46,700 kW; and (5) Transmission Lines—Two 230 kV overhead transmission lines, one to the Camino switchyard via the 11.8-mile-long Union Valley-Camino Transmission Line, and the other to the Jaybird switchyard via the 5.9-mile-long Union Valley-Jaybird Transmission Line.

• Jaybird Development—(1) Junction Dam—A double curvature, concrete overflow arch dam located on Silver Creek that is 525 feet long and 168 feet high, creating Junction Reservoir; (2) Jaybird Tunnel—An 11- to 14-foot-diameter modified horseshoe tunnel 4.4-mile-long, connecting Junction Reservoir and the Jaybird Penstock; (3) Jaybird Penstock—A 6- to 10-foot-diameter steel penstock with a surge tank that is 0.5-mile-long, connecting Jaybird Tunnel and Jaybird Powerhouse; (4) Jaybird Powerhouse—The powerhouse is equipped with two Pelton turbines, one with a rated capacity of 61,607 kW and the other 61,574 kW at best gate opening, and two generators, each rated at 84,450 kW; with total powerhouse maximum capability of 144,000 kW; and (5) Jaybird-White Rock Transmission Line—A 15.9-mile-long, 230 kV overhead transmission line connecting the Jaybird and White Rock switchyards.

• Camino Development—(1) Camino Dam—A concrete double curvature arch dam located on Silver Creek that is 470-foot-long and 133-foot-high, and has three integral bulkhead gates. These structures create Camino Reservoir; (2) Camino Tunnel—A 5-mile-long power tunnel with a diameter ranging from 13 feet to 14 feet; and including a surge tank that connects Camino Reservoir with the Camino Penstock; (3) Brush Creek Dam—A double curvature arch dam located on Brush Creek, 213 feet high and 780 feet long, creating Brush Creek Reservoir; (4) Brush Creek Tunnel—An approximately 14-foot-diameter modified horseshoe tunnel extending 0.8 mile from Brush Creek Reservoir to the lower end of Camino Tunnel; (5) Camino Penstock—A 5-foot to 12-foot-diameter, 0.3-mile-long above ground steel penstock connecting Camino Tunnel and Camino Powerhouse; (7) Camino Powerhouse—The powerhouse is located on the SFAR and is equipped with two turbines: one with a rated capacity of 73,760 kW and the other with a rated capacity at best gate opening of 70,769 kW with total powerhouse maximum capability of 150,000 kW. The powerhouse is also equipped with two generators rated at 90,820 kW each. Both generators are installed with secondary oil containment; and (8) Transmission Lines—Two 230 kV overhead transmission lines originate at the Camino Switchyard, one (Camino-Lake) is 31.7-mile-long and connects to SMUD's Lake Substation and the other (Camino-White Rock) is 10.0 miles long and connects to the White Rock Switchyard.

• Slab Creek/White Rock Development—(1) Slab Creek Dam—A double curvature variable radius concrete arch dam that stretches across the South Fork American River is 250 feet high and 817 feet long, with a central uncontrolled overflow spillway. The structures create Slab Creek Reservoir; (2) Slab Creek Penstock—A 40-foot-long, 24-inch diameter steel penstock that passes through the dam and connects Slab Creek Reservoir with Slab Creek Powerhouse; (3) Slab Creek Powerhouse—The powerhouse, which is located at the base of Slab Creek Dam and utilizes minimum stream flow releases, has one turbine with a rated capacity at best gate opening of 450 kW, and one generator rated at 485 kW, with a total powerhouse maximum capability of 400 kW; (4) White Rock Tunnel—an approximately 20- to 24-foot-diameter modified horseshoe tunnel 4.9-mile-long and has a surge shaft that connects Slab Creek Reservoir with White Rock Penstock; (5) White Rock Penstock—A 9 to 15-foot-diameter, 0.3-mile-long aboveground steel penstock that connects White Rock Tunnel to White Rock Powerhouse; (6) White Rock Powerhouse—The powerhouse is equipped with two turbines, one rated at 112,976 kW and the other at 120,000 kW at best gate opening, and two generators, rated at 109,250 kW and 133,000 kW, with total powerhouse maximum capability of 224,000 kW; and (7) Transmission Lines—There are two 230 kV overhead transmission lines and one 12 kV distribution line. The two transmission lines, both 21.8 miles in length, connect the White Rock switchyard to SMUD's Folsom Junction. The 600-foot-long 12 kV Slab Creek tap line connects the Slab Creek Powerhouse to the junction with Pacific Gas and Electric Company's 12-kV distribution line.

SMUD's Proposed Action includes the addition of the Iowa Hill Development. The development would be composed of the following features: (1) Iowa Hill Reservoir—A new off-stream, rock filled earthen dike of varying height depending on natural terrain (maximum height 280 feet) and 5,900 feet in circumference with a geotextile liner on the reservoir floor and inside surface of the dike; (2) Iowa Hill Tunnel—A new underground water conduit extending from Iowa Hill Reservoir and connecting to Slab Creek Reservoir, and comprised of: a 1,120-foot-long, 19.02-foot-diameter, concrete-lined vertical shaft; a 1,110-foot-long, 19.02-foot-diameter concrete-lined high pressure tunnel; a 250-foot-long, 15.74-foot-diameter, steel-lined high pressure tunnel; a 150-foot-long, 12.45-foot-diameter, steel manifold; three 180-foot-long, 7.87-foot-diameter, steel penstocks; three 450-foot-long, 12.46-foot-diameter draft tube extensions; a 150-foot-long, 17.22-foot-diameter steel manifold; and a 1,230-foot-long, 20.93-foot-diameter, concrete-lined low pressure tunnel; (3) Iowa Hill Powerhouse—A new underground powerhouse along the Iowa Hill Tunnel that would include three variable speed turbines each with a nominal rating of 133 MW, and a three generators each rated at 170 MW as a pump motor. The powerhouse would have a maximum capability of 400 MW; (4) Iowa Hill Switchyard—A new Iowa Hill Switchyard; and (5) Transmission Line—A new 230 kV transmission line that would connect the Iowa Hill Switchyard to the existing Camino-White Rock Transmission Line. SMUD anticipates that from the time a new project license is issued by FERC and accepted by SMUD, seven years would be required to complete the engineering, procurement, and construction of the Iowa Hill Development.

In addition, as part of the License Application, SMUD proposes to exclude from the project description and FERC Project Boundary certain transmission line sections included in the current license and FERC Project Boundary. The excluded sections are: (1) A 9.3-mile long section of 230 kV line from Folsom Junction to Orangevale Substation; (2) a 17.8-mile long section of 230 kV line from Folsom Junction to Hedge Substation; and (3) a 1.9-mile long section of 230 kV line from Folsom Junction to Lake Substation.

n. A copy of the application is available for review at the Commission in the Public Reference Room or may be viewed on the Commission's Web site at: http://www.ferc.gov using the “eLibrary” link. Enter the docket number, excluding the last three digits in the docket number field (P-2101), to access the document. For assistance, contact FERC Online Support at FERCOnlineSupport@ferc.gov, or toll-free at 1-866-208-3676, or for TTY, (202) 502-8659. A copy is also available for inspection and reproduction at the address in item h above. You may also register online at: http://www.ferc.gov/esubscribenow.htm to be notified via e-mail of new filings and issuances related to this or other pending projects. For assistance, contact FERC Online Support.

o. With this notice, we are initiating consultation with the California State Historic Preservation Officer (SHPO), as required by section 106, National Historic Preservation Act, and the regulations of the Advisory Council on Historic Preservation, 36 CFR 800.4.

p. Procedural schedule and final amendments: The application will be processed according to the following Hydro Licensing Schedule. Revisions to the schedule will be made if the Commission determines it necessary to do so:

Milestone | Tentative date
Issue Acceptance/Deficiency Letter and request Additional Information, if needed | November 2005.
Notice asking for final terms and conditions | April 2006.
Notice of the availability of the draft EIS | December 2006.
Notice of the availability of the final EIS | June 2007.
Ready for Commission's decision on the application | August 2007.

Final amendments to the application must be filed with the Commission no later than 30 days from the issuance date of the notice soliciting final terms and conditions.

Linda Mitry,
Deputy Secretary.

[FR Doc. E5-4198 Filed 8-4-05; 8:45 am]

BILLING CODE 6717-01-P